DEPARTMENT OF COMMERCE

Foreign-Trade Zones Board

[Order No. 1967]

Reorganization of Foreign-Trade Zone 58 Under Alternative Site Framework; Bangor, Maine

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of Bangor, grantee of Foreign-Trade Zone 58, submitted an application to the Board (FTZ Docket B-67-2014, docketed 09-23-2014) for authority to reorganize under the ASF with a service area of the Counties of Hancock, Penobscot, Piscataquis, Waldo and Washington, Maine, within and adjacent to the Bangor Customs and Border Protection port of entry, and FTZ 58's existing Site 1 would be categorized as a magnet site;

Whereas, notice inviting public comment was given in the Federal Register (79 FR 58318, 09-29-2014) and the application has been processed pursuant to the FTZ Act and the Board's regulations; and

Whereas, the Board adopts the findings and recommendations of the examiner's report, and finds that the requirements of the FTZ Act and the Board's regulations are satisfied;

Now, therefore, the Board hereby orders:

The application to reorganize FTZ 58 under the ASF is approved, subject to the FTZ Act and the Board's regulations, including Section 400.13, and to the Board's standard 2,000-acre activation limit for the zone.

Signed at Washington, DC, this March 12, 2015.
Ronald K. Lorentzen,
Acting Assistant Secretary of Commerce for Enforcement and Compliance, Alternate Chairman, Foreign-Trade Zones Board.
Attest:
Andrew McGilvray,
Executive Secretary.

[FR Doc. 2015-06457 Filed 3-19-15; 08:45 am]

BILLING CODE 3510-DS-P